INTERNATIONAL TRADE COMMISSION

[Investigation Nos. 701-TA-449 and 731-TA-1118-1121 (Final)]

Light-Walled Rectangular Pipe and Tube From China, Korea, Mexico, and Turkey

AGENCY: United States International Trade Commission.

ACTION: Revised schedule for the subject investigations.

EFFECTIVE DATE: April 25, 2008.

FOR FURTHER INFORMATION CONTACT: Russell Duncan (202-708-4727), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

SUPPLEMENTARY INFORMATION: On January 28, 2008, the Commission established a schedule for the conduct of the final phase of investigation Nos. 701-TA-449 and 731-TA-1118-1120 (Final) Light-Walled Rectangular Pipe and Tube from China, Korea, Mexico, and Turkey (73 FR 6740, February 5, 2008). At that time, the Commission noted with respect to the two countries (China and Korea) for which the Department of Commerce had postponed its final determinations that comments on those determinations “will be permitted based on a schedule to be issued by the Commission no later than the publication in the Federal Register of such determinations by the Department of Commerce.” Subsequently, the Department of Commerce extended the date for its final determination in the investigation on Mexico to June 13, 2008 (73 FR 10743, February 28, 2008). The Commission is, hereby, issuing its additional scheduling date with respect to the investigations concerning China, Korea, and Mexico as follows: a supplemental brief addressing only Commerce's final countervailing and antidumping duty determinations is due on June 20, 2008. The brief may not exceed five (5) pages in length.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: April 28, 2008.
Marilyn R. Abbott,
Secretary to the Commission.

[FR Doc. E8-9665 Filed 5-1-08; 8:45 am]

BILLING CODE 7020-02-P